DEPARTMENT OF ENERGY

Federal Energy Regulatory Commission

Notice of Application for Non-Project Use of Project Lands and Waters and Soliciting Comments, Motions to Intervene, and Protests

April 5, 2005.

Take notice that the following application has been filed with the Commission and is available for public inspection:

a. Application Type: Non-project use of project lands and waters.

b. Project No.: 2165-021.

c. Date Filed: March 7, 2005.

d. Applicant: Alabama Power Company.

e. Name of Project: Warrior River Hydroelectric Project, which includes the Lewis Smith and Bankhead Developments.

f. Location: The proposed action will take place at the Lewis Smith development, located in northwestern Alabama in the headwaters of the Black Warrior River on the Sipsey Fork in Cullman, Walker, and Winston counties.

g. Filed Pursuant to: Federal Power Act, 16 U.S.C. 791 (a) 825(r) and 799 and 801.

h. Applicant Contact: Mr. R.M. Akridge, Hydro General Manager; Alabama Power Company; P.O. Box 2641; Birmingham, AL; 35291-8180; (205) 257-1398.

i. FERC Contact: Any questions on this notice should be addressed to Isis Johnson at (202) 502-6346, or by e-mail: Isis.Johnson@ferc.gov.

j. Deadline for Filing Comments and or Motions: May 6, 2005.

All documents (original and eight copies) should be filed with: Ms. Magalie R. Salas, Secretary, Federal Energy Regulatory Commission, 888 First Street, NE., Washington DC 20426. Please include the project number (P-2165-021) on any comments or motions filed. Comments, protests, and interventions may be filed electronically via the Internet in lieu of paper. See, 18 CFR 385.2001(a)(1)(iii) and the instructions on the Commission's Web site under the “e-Filing” link. The Commission strongly encourages e-filings.

k. Description of Request: Alabama Power, licensee for the Warrior River Hydroelectric Project, has requested Commission approval to permit the Duncan Bridge Resort (applicant) to install three new boat docks for private use by the owners of 56 condominiums currently being built on non-project lands above the project boundary. The property is located on the west bank of the Sipsey Fork of Smith Lake in Winston County, Alabama. The applicant proposes three docks accommodating 20 boats each, for a total of 60 slips. The docks will occupy the same area as previous structures from the Huey Marina which closed in 1999; all existing facilities have been removed. The docks and walkways will be constructed of galvanized steel with floatation conforming to the licensee's floating requirements.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E5-1718 Filed 4-12-05; 8:45 am]

BILLING CODE 6717-01-P